DEPARTMENT OF EDUCATION

Meeting; National Advisory Council on Indian Education (NACIE)

AGENCY: National Advisory Council on Indian Education (NACIE), Department of Education.

ACTION: Notice of an open meeting.

SUMMARY: This notice sets forth the agenda, time, and instructions to access or participate in the August 29-30, 2023, virtual meeting of NACIE. This notice provides information about the meeting to members of the public who may be interested in attending the meeting and how to provide written comment for the meeting.

DATES: The NACIE open virtual meeting will be held on August 29-30, 2023, from 1:00-4:30 p.m. (EDT).

FOR FURTHER INFORMATION CONTACT: Crystal C. Moore, Designated Federal Official, Office of Elementary and Secondary Education (OESE)/Office of Indian Education (OIE), U.S. Department of Education, 400 Maryland Avenue SW, Office 3W243, Washington, DC 20202. Telephone: 202-453-5593, Email: Crystal.Moore@ed.gov.

SUPPLEMENTARY INFORMATION:

Statutory Authority and Function: Notice of this meeting is required by section 1009(a)(2) of 5 U.S.C. chapter 10 (Federal Advisory Committees). NACIE is authorized by section 6141 of the Elementary and Secondary Education Act of 1965 (ESEA), as amended (20 U.S.C. 7471). The work of NACIE was expanded by Executive Order 14049. In accordance with section 6141 of the ESEA, NACIE shall advise the Secretary of Education and the Secretary of Interior on the funding and administration (including the development of regulations and administrative policies and practices) of any program, including any program established under title VI, Part A of the ESEA, with respect to which the Secretary of Education has jurisdiction and (1) that includes Indian children or adults as participants or (2) that may benefit Indian children or adults. Also in accordance with section 6141 of the ESEA, NACIE shall make recommendations to the Secretary of Education for filling the position of Director of Indian Education whenever a vacancy occurs and shall submit to the Congress, no later than June 30 of each year, a report on its activities that includes recommendations that are considered appropriate for the improvement of Federal education programs that include Indian children or adults as participants or that may benefit Indian children or adults, and recommendations concerning the funding of any such program. In accordance with section 3 of Executive Order 14049, NACIE shall advise the Co-Chairs of the White House Initiative on Advancing Educational Equity, Excellence and Economic Opportunity for Native Americans and Strengthening Tribal Colleges and Universities (WHI-NATCU), in consultation with the WHI-NATCU, on (1) what is needed for the development, implementation, and coordination of educational programs and initiatives to improve educational opportunities and outcomes for Native Americans, (2) how to promote career pathways for in-demand jobs for Native American students, including registered apprenticeships as well as internships, fellowships, mentorships, and work-based learning initiatives, (3) ways to strengthen Tribal Colleges and Universities and increase their participation in agency programs, (4) how to increase public awareness of and generate solutions for the educational and training challenges and equity disparities that Native American students face and the causes of these challenges and disparities, (5) approaches to establish local and national partnerships with public, private, philanthropic, and nonprofit stakeholders to advance the policy set forth in Section 1 of Executive Order 14049, consistent with applicable law, and (6) actions for promoting, improving, and expanding educational opportunities for Native languages, traditions, and practices to be sustained through culturally responsive education. Also, in accordance with section 3 of Executive Order 14049, NACIE and the Executive Director of the WHI-NATCU (Executive Director) shall, as appropriate and consistent with applicable law, facilitate frequent collaborations between the WHI-NATCU and Tribal Nations, Alaska Native Entities, and other Tribal organizations. Finally, in accordance with section 3 of Executive Order 14049, NACIE shall consult with the Executive Director so that the Executive Director can address NACIE's efforts pursuant to section 3(a) of Executive Order 14019 in the annual report of the WHI-NATCU submitted to the President.

Meeting Agenda: The purpose of this meeting is to convene NACIE and conduct the following business: FY24: Calendar, Annual Report to Congress, and Activity Planning; Collaborative NACIE-Related Organization Chart Discussion, Federal Stakeholder Updates, Bylaws Update, Open Public Comment; and discussion with other federal stakeholders, e.g., U.S. Department of the Interior, Bureau of Indian Education (BIE), WHI-NATCU, U.S. Department of Labor, and U.S. Department of Education, Office of Indian Education.

Instructions for Accessing the Meeting: Members of the public may access the NACIE meeting via virtual teleconference. Up to 350 lines will be available on a first come, first serve basis for those who wish to join via teleconference. The dial-in listen only phone number for the meeting is: 1-669-254-5252 and, Meeting ID: is: 161 715 5166. The web link to register to access the meeting via Zoom.gov is: https://www.zoomgov.com/meeting/register/vJItce6gpjsvHQ8KGik8VaRXX-f9_xJi86U.

Public Comment: Members of the public interested in submitting written comments may do so via email to Crystal Moore at Crystal.Moore@ed.gov by 11:59 p.m. Eastern Time (ET) on August 29, 2023. Please note written comments should pertain to the work of NACIE. Open comments during the open comment (only): (1) are also required to be directly pertinent to NACIE's purview, (2) will be accepted on a first requested—first served basis during the live meeting, and (3) each commenter will have a maximum of two minutes to state his or her comment and/or question.

Reasonable Accommodations: The virtual meeting is accessible to individuals with disabilities. If you will need an auxiliary aid or service for the meeting (e.g., interpreting service, assistive listening device, or materials in an alternate format), notify the contact person listed in this notice no later than August 22, 2023. Although we will attempt to meet a request received after that date, we may not be able to make available the requested auxiliary aid or service because of insufficient time to arrange it.

Access to Records of the Meeting: The Department will post the official minutes of this meeting on the OESE website, https://oese.ed.gov/offices/office-of-indian-education/national-advisory-council-on-indian-education-oie/, 21 days after the meeting. Pursuant to 5 U.S.C. 1009(b), the public may also inspect NACIE records at the Office of Indian Education, United States Department of Education, 400 Maryland Avenue SW, Washington, DC 20202, Monday-Friday, 8:30 a.m. to 5:00 p.m. ET. Please email Crystal Moore at Crystal.Moore@ed.gov to schedule an appointment.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: § 6141 of the ESEA, as amended (20 U.S.C. 7471).

Adam Schott,
Deputy Assistant Secretary for Policy and Programs, Delegated the Authority to Perform the Functions and Duties of the Assistant Secretary Office of Elementary and Secondary Education.

[FR Doc. 2023-17437 Filed 8-14-23; 8:45 am]

BILLING CODE 4000-01-P